DEPARTMENT OF COMMERCE

International Trade Administration

[A-357-825]

White Grape Juice Concentrate From Argentina: Initiation of Less-Than-Fair-Value Investigation

AGENCY: Enforcement and Compliance, International Trade Administration, Department of Commerce.

DATES: Applicable April 20, 2022.

FOR FURTHER INFORMATION CONTACT: Myrna Lobo, AD/CVD Operations, Office VII, Enforcement and Compliance, International Trade Administration, U.S. Department of Commerce, 1401 Constitution Avenue NW, Washington, DC 20230; telephone: (202) 482-2371.

SUPPLEMENTARY INFORMATION:

The Petition

On March 31, 2022, the Department of Commerce (Commerce) received an antidumping duty (AD) petition concerning imports of white grape juice concentrate (WGJC) from Argentina filed in proper form on behalf of Delano Growers Grape Products, LLC (the petitioner), a domestic producer of WGJC.¹ The Petition was accompanied by a countervailing duty (CVD) petition concerning imports of WGJC from Argentina.²

¹ See Petitioner's Letter, “Petition for the Imposition of Antidumping and Countervailing Duties: White Grape Juice Concentrate from Argentina,” dated March 31, 2022 (the Petition).

² Id.

Between April 5 and 14, 2022, Commerce requested supplemental information pertaining to certain aspects of the Petition.³ The petitioner filed timely responses to each request.⁴

³ See Commerce's Letters, “Petitions for the Imposition of Antidumping and Countervailing Duties on Imports of White Grape Juice Concentrate from Argentina: Supplemental Questions,” dated April 5, 2022 (General Issues Questionnaire); “Second Supplemental Questions,” dated April 14, 2022; and AD Supplemental Questionnaires, dated April 5 and 14, 2022.

⁴ See Petitioner's Letters, “Petition for the Imposition of Antidumping and Countervailing Duties: White Grape Juice Concentrate from Argentina,” dated April 13, 2022 (First General Issues Supplement); “Petition for the Imposition of Antidumping and Countervailing Duties: White Grape Juice Concentrate from Argentina,” dated April 14, 2022 (Second General Issues Supplement); “Petition for the Imposition of Antidumping and Countervailing Duties: White Grape Juice Concentrate from Argentina,” dated April 11, 2022; “Petition for the Imposition of Antidumping and Countervailing Duties: White Grape Juice Concentrate from Argentina,” dated April 11, 2022 (Updated Declarations); and “Petition for the Imposition of Antidumping and Countervailing Duties: White Grape Juice Concentrate from Argentina,” dated April 15, 2022.

In accordance with section 732(b) of the Tariff Act of 1930, as amended (the Act), the petitioner alleges that imports of WGJC from Argentina are being, or are likely to be, sold in the United States at less than fair value (LTFV) within the meaning of section 731 of the Act, and that imports of such products are materially injuring, or threatening material injury to, the WGJC industry in the United States. Consistent with section 732(b)(1) of the Act, the Petition is accompanied by information reasonably available to the petitioner supporting its allegations.

Commerce finds that the petitioner filed the Petition on behalf of the domestic industry, because the petitioner is an interested party, as defined in section 771(9)(C) of the Act. Commerce also finds that the petitioner demonstrated sufficient industry support for the initiation of the requested LTFV investigation.⁵

⁵ See infra, section titled “Determination of Industry Support for the Petition.”

Period of Investigation

Because the Petition was filed on March 31, 2022, the period of investigation (POI) for this LTFV investigation is January 1, 2021, through December 31, 2021, pursuant to 19 CFR 351.204(b)(1).

Scope of the Investigation

The product covered by this investigation is WGJC from Argentina. For a full description of the scope of this investigation, see the appendix to this notice.

Comments on the Scope of the Investigation

On April 5, 2022, Commerce requested further information from the petitioner regarding the proposed scope, to ensure that the scope language in the Petition is an accurate reflection of the products for which the domestic industry is seeking relief.⁶ On April 13, 2022, the petitioner provided a narrative clarification regarding the scope.⁷ The description of the merchandise covered by this investigation, as described in the appendix to this notice, reflects the products for which the domestic industry is seeking relief.

⁶ See General Issues Questionnaire.

⁷ See First General Issues Supplement at 2.

As discussed in the Preamble to Commerce's regulations, we are setting aside a period for interested parties to raise issues regarding product coverage (i.e., scope).⁸ Commerce will consider all comments received from interested parties and, if necessary, will consult with interested parties prior to the issuance of the preliminary determination. If scope comments include factual information,⁹ all such factual information should be limited to public information. To facilitate preparation of its questionnaires, Commerce requests that all interested parties submit such comments by 5:00 p.m. Eastern Time (ET) on May 10, 2022, which is 20 calendar days from the signature date of this notice. Any rebuttal comments, which may include factual information, must be filed by 5:00 p.m. ET on May 20, 2022, which is ten calendar days from the initial comment deadline.

⁸ See Antidumping Duties; Countervailing Duties, Final Rule, 62 FR 27296, 27323 (May 19, 1997) (Preamble).

⁹ See 19 CFR 351.102(b)(21) (defining “factual information”).

Commerce requests that any factual information that parties consider relevant to the scope of this investigation be submitted during this period. However, if a party subsequently finds that additional factual information pertaining to the scope of this investigation may be relevant, the party may contact Commerce and request permission to submit the additional information. All such submissions must be filed on the records of each of the concurrent AD and CVD investigations.

Filing Requirements

All submissions to Commerce must be filed electronically via Enforcement and Compliance's Antidumping Duty and Countervailing Duty Centralized Electronic Service System (ACCESS), unless an exception applies.¹⁰ An electronically filed document must be received successfully in its entirety by the time and date on which it is due. Note that Commerce has temporarily modified certain of its requirements for serving documents containing business proprietary information, until further notice.¹¹

¹⁰ See Antidumping and Countervailing Duty Proceedings: Electronic Filing Procedures; Administrative Protective Order Procedures, 76 FR 39263 (July 6, 2011); see also Enforcement and Compliance; Change of Electronic Filing System Name, 79 FR 69046 (November 20, 2014) for details of Commerce's electronic filing requirements, effective August 5, 2011. Information on help using ACCESS can be found at https://access.trade.gov/help.aspx and a handbook can be found at https://access.trade.gov/help/Handbook_on_Electronic_Filing_Procedures.pdf.

¹¹ See Temporary Rule Modifying AD/CVD Service Requirements Due to COVID-19; Extension of Effective Period, 85 FR 41363 (July 10, 2020) (Temporary Rule).

Comments on Product Characteristics

Commerce is providing interested parties an opportunity to comment on the appropriate physical characteristics of WGJC to be reported in response to Commerce's AD questionnaires. This information will be used to identify the key physical characteristics of the subject merchandise in order to report the relevant costs of production accurately, as well as to develop appropriate product comparison criteria.

Interested parties may provide any information or comments that they feel are relevant to the development of an accurate list of physical characteristics. Specifically, they may provide comments as to which characteristics are appropriate to use as: (1) General product characteristics; and (2) product comparison criteria. We note that it is not always appropriate to use all product characteristics as product comparison criteria. We base product comparison criteria on meaningful commercial differences among products. In other words, although there may be some physical product characteristics utilized by manufacturers to describe WGJC, it may be that only a select few product characteristics take into account commercially meaningful physical characteristics. In addition, interested parties may comment on the order in which the physical characteristics should be used in matching products. Generally, Commerce attempts to list the most important physical characteristics first and the least important characteristics last.

In order to consider the suggestions of interested parties in developing and issuing the AD questionnaires, all product characteristics comments must be filed by 5:00 p.m. ET on May 10, 2022, which is 20 calendar days from the signature date of this notice. Any rebuttal comments must be filed by 5:00 p.m. ET on May 20, 2022, which is ten calendar days from the initial comment deadline. All comments and submissions to Commerce must be filed electronically using ACCESS, as explained above, on the record of the LTFV investigation.

Determination of Industry Support for the Petition

Section 732(b)(1) of the Act requires that a petition be filed on behalf of the domestic industry. Section 732(c)(4)(A) of the Act provides that a petition meets this requirement if the domestic producers or workers who support the petition account for: (i) At least 25 percent of the total production of the domestic like product; and (ii) more than 50 percent of the production of the domestic like product produced by that portion of the industry expressing support for, or opposition to, the petition. Moreover, section 732(c)(4)(D) of the Act provides that, if the petition does not establish support of domestic producers or workers accounting for more than 50 percent of the total production of the domestic like product, Commerce shall: (i) Poll the industry or rely on other information in order to determine if there is support for the petition, as required by subparagraph (A); or (ii) determine industry support using a statistically valid sampling method to poll the “industry.”

Section 771(4)(A) of the Act defines the “industry” as the producers as a whole of a domestic like product. Thus, to determine whether a petition has the requisite industry support, the statute directs Commerce to look to producers and workers who produce the domestic like product. The U.S. International Trade Commission (ITC), which is responsible for determining whether “the domestic industry” has been injured, must also determine what constitutes a domestic like product in order to define the industry. While both Commerce and the ITC must apply the same statutory definition regarding the domestic like product,¹² they do so for different purposes and pursuant to a separate and distinct authority. In addition, Commerce's determination is subject to limitations of time and information. Although this may result in different definitions of the like product, such differences do not render the decision of either agency contrary to law.¹³

¹² See section 771(10) of the Act.

¹³ See USEC, Inc. v. United States, 132 F. Supp. 2d 1, 8 (CIT 2001) (citing Algoma Steel Corp., Ltd. v. United States, 688 F. Supp. 639, 644 (CIT 1988), aff'd 865 F.2d 240 (Fed. Cir. 1989)).

Section 771(10) of the Act defines the domestic like product as “a product which is like, or in the absence of like, most similar in characteristics and uses with, the article subject to an investigation under this title.” Thus, the reference point from which the domestic like product analysis begins is “the article subject to an investigation” (i.e., the class or kind of merchandise to be investigated, which normally will be the scope as defined in the petition).

With regard to the domestic like product, the petitioner does not offer a definition of the domestic like product distinct from the scope of the investigation.¹⁴ Based on our analysis of the information submitted on the record, we have determined that WGJC, as defined in the scope, constitutes a single domestic like product, and we have analyzed industry support in terms of that domestic like product.¹⁵

¹⁴ See Petition at 16-20.

¹⁵ For a discussion of the domestic like product analysis as applied to this case and information regarding industry support, see Antidumping Duty Investigation Initiation Checklist: White Grape Juice Concentrate from Argentina (AD Initiation Checklist) at Attachment II, Analysis of Industry Support for the Antidumping and Countervailing Duty Petitions Covering White Grape Juice Concentrate from Argentina (Attachment II). This checklist is dated concurrently with this notice and on file electronically via ACCESS.

In determining whether the petitioner has standing under section 732(c)(4)(A) of the Act, we considered the industry support data contained in the Petition with reference to the domestic like product as defined in the “Scope of the Investigation,” in the appendix to this notice. To establish industry support, the petitioner provided the total volume of grapes it crushed for WGJC during crop year 2020 (i.e., August 2020-July 2021).¹⁶ The petitioner also provided the total volume of grapes crushed for concentrate during crop year 2020, as reported by the U.S. Department of Agriculture's National Agricultural Statistics Service (USDA NASS) in its July 29, 2021, 2020 Errata to the California Grape Crush Report (July 2021 USDA Grape Crush Report).¹⁷ Because the data in the July 2021 USDA Grape Crush Report reflect the total volume of grapes crushed for concentrate, including other concentrate products that are not part of the domestic like product, the petitioner adjusted the volume reported in the July 2021 USDA Grape Crush Report in order to estimate the total volume of grapes crushed for WGJC.¹⁸ The petitioner then compared its own volume of grapes crushed for WGJC to the estimated total volume of grapes crushed for WGJC in crop year 2020.¹⁹ We relied on data provided by the petitioner for purposes of measuring industry support.²⁰

¹⁶ See Petition at 5 and 9-10; see also Petitioner's Letter, “Petition for the Imposition of Antidumping and Countervailing Duties: White Grape Juice Concentrate from Argentina,” dated March 31, 2022 (Exhibit 10 Declaration); and Updated Declarations at Exhibit 10.

¹⁷ See Petition at 5-8 and Exhibits 21 and 22.

¹⁸ Id. at 5-8 and Exhibits 14 and 22; see also First General Issues Supplement at Answer to Question 6; and Updated Declarations at Exhibit 14.

¹⁹ See Petition at 8-10.

²⁰ Id. at 5-11 and Exhibits 14, 21, and 22; see also Exhibit 10 Declaration; First General Issues Supplement at 2-4 and Answer to Question 6; and Updated Declarations at Exhibits 10 and 14. For further discussion, see Attachment II of the AD Initiation Checklist.

On April 11, 2022, the Government of Argentina (GOA) raised industry support comments during the consultations held regarding the CVD Petition.²¹

²¹ See Memorandum, “Countervailing Duty Petition on Imports of White Grape Juice Concentrate from the Republic of Argentina: Consultations with Officials from the Government of Argentina,” dated April 20, 2022.

Our review of the data provided in the Petition, Exhibit 10 Declaration, the First General Issues Supplement, the Updated Declarations, and other information readily available to Commerce indicates that the petitioner has established industry support for the Petition.²² First, the Petition established support from domestic producers (or workers) accounting for more than 50 percent of the total production of the domestic like product and, as such, Commerce is not required to take further action in order to evaluate industry support (e.g., polling).²³ Second, the domestic producers (or workers) have met the statutory criteria for industry support under section 732(c)(4)(A)(i) of the Act because the domestic producers (or workers) who support the Petition account for at least 25 percent of the total production of the domestic like product.²⁴ Finally, the domestic producers (or workers) have met the statutory criteria for industry support under section 732(c)(4)(A)(ii) of the Act because the domestic producers (or workers) who support the Petition account for more than 50 percent of the production of the domestic like product produced by that portion of the industry expressing support for, or opposition to, the Petitions.²⁵ Accordingly, Commerce determines that the Petition was filed on behalf of the domestic industry within the meaning of section 732(b)(1) of the Act.²⁶

²² See Petition at 5-11 and Exhibits 14 and 22; see also Exhibit 10 Declaration; First General Issues Supplement at 3-4; and Updated Declarations at Exhibits 10 and 14. For further discussion, see Attachment II of the AD Initiation Checklist.

²³ See Attachment II of the AD Initiation Checklist; see also section 732(c)(4)(D) of the Act.

²⁴ See Attachment II of the AD Initiation Checklist.

²⁵ Id.

²⁶ Id.

Allegations and Evidence of Material Injury and Causation

The petitioner alleges that the U.S. industry producing the domestic like product is being materially injured, or is threatened with material injury, by reason of the imports of the subject merchandise sold at LTFV. In addition, the petitioner alleges that subject imports exceed the negligibility threshold provided for under section 771(24)(A) of the Act.²⁷

²⁷ See Petition at 21 and Exhibit 6.

The petitioner contends that the industry's injured condition is illustrated by underselling and price suppression; lost sales and revenues; decline in the U.S. industry's production over the years; inventory carryover into the next crush year; removal of grape vine acreage, which impacts the petitioner's ability to operate at full capacity; the loss of producers of WGJC and grape growers; and the magnitude of the alleged dumping margin.²⁸ We assessed the allegations and supporting evidence regarding material injury, threat of material injury, causation, as well as negligibility, and we have determined that these allegations are properly supported by adequate evidence, and meet the statutory requirements for initiation.²⁹

²⁸ Id. at 20-34 and Exhibits 2, 5-8, 13, 23-24, and 32-34; see also Exhibit 10 Declaration; Updated Declarations at Exhibits 10 and 14; First General Issues Supplement at 1-10 and Answer to Question 17, Supplemental to Exhibits 10 and 33, and Updated Exhibit 10; Second General Issues Supplement at 1-6 and Updated Declaration of Jeff Bitter, Supplemental Exhibits 1-3, and Updated Supplement to Exhibit 10; and Petitioner's Letter, “Petition for the Imposition of Antidumping and Countervailing Duties: White Grape Juice Concentrate from Argentina,” dated April 19, 2022 (Exhibit 37 Declaration).

²⁹ See AD Initiation Checklist at Attachment III, Analysis of Allegations and Evidence of Material Injury and Causation for the Antidumping and Countervailing Duty Petitions Covering White Grape Juice Concentrate from Argentina.

Allegations of Sales at LTFV

The following is a description of the allegation of sales at LTFV upon which Commerce based its decision to initiate this LTFV investigation of imports of WGJC from Argentina. The sources of data for the deductions and adjustments relating to U.S. price and normal value (NV) are discussed in greater detail in the Argentina AD Initiation Checklist.

U.S. Price

The petitioner established export price (EP) based on pricing information for a sale, or offer for sale, of WGJC produced in and exported from Argentina during the POI. To calculate an ex-factory, net U.S. price, the petitioner deducted movement and other expenses.³⁰

³⁰ See AD Initiation Checklist.

Normal Value Based on Constructed Value ³¹

³¹ In accordance with section 773(b)(2) of the Act, for this investigation, Commerce will request information necessary to calculate the CV and cost of production (COP) to determine whether there are reasonable grounds to believe or suspect that sales of the foreign like product have been made at prices that represent less than the COP of the product.

The petitioner stated it was unable to obtain home market or third country prices for WGJC to use as a basis for NV. Therefore, the petitioner calculated NV based on constructed value (CV).³²

³² See AD Initiation Checklist.

Pursuant to section 773(e) of the Act, the petitioner calculated CV as the sum of the cost of manufacturing, selling, general, and administrative expenses, financial expenses, and profit.³³ In calculating the cost of manufacturing, the petitioner relied on its own production experience and input consumption rates as a U.S. WGJC producer, valued using publicly available information, where applicable.³⁴ In calculating selling, general, and administrative expenses, the petitioner relied on its own financial statements for the year ended June 30, 2021. For the profit ratio, the petitioner relied upon the 2020 financial statements of a producer of wine in Argentina.³⁵

³³ Id.

³⁴ Id.

³⁵ Id.

Fair Value Comparisons

Based on the data provided by the petitioner, there is reason to believe that imports of WGJC from Argentina are being, or are likely to be, sold in the United States at LTFV. Based on comparisons of EP to CV in accordance with section 773 of the Act, the estimated dumping margin for WGJC from Argentina covered by this initiation is 101.26 percent.³⁶

³⁶ Id.

Initiation of LTFV Investigation

Based upon the examination of the Petition and supplemental responses, we find that they meet the requirements of section 732 of the Act. Therefore, we are initiating this LTFV investigation to determine whether imports of WGJC from Argentina are being, or are likely to be, sold in the United States at LTFV. In accordance with section 733(b)(1)(A) of the Act and 19 CFR 351.205(b)(1), unless postponed, we will make our preliminary determination no later than 140 days after the date of this initiation.

Respondent Selection

In the Petition, the petitioner identified eight companies in Argentina as producers and/or exporters of WGJC.³⁷ Following standard practice in LTFV investigations involving market economy countries, in the event that Commerce determines that the number of exporters or producers in any individual case is large such that Commerce cannot individually examine each company based upon its resources, where appropriate, Commerce intends to select mandatory respondents in that case based on U.S. Customs and Border Protection (CBP) data for U.S. imports under the appropriate Harmonized Tariff Schedule of the United States subheadings listed in the “Scope of the Investigation,” in the appendix to this notice.

³⁷ See Petition at 15 and Exhibit 4.

On April 18, 2022, Commerce released CBP data on imports of WGJC from Argentina under administrative protective order (APO) to all parties with access to information protected by APO, and indicated that interested parties wishing to comment on the CBP data must do so within three business days after the publication date of the notice of initiation of this investigation.³⁸ Commerce will not accept rebuttal comments regarding the CBP data or respondent selection.

³⁸ See Memorandum, “Release of U.S. Customs and Border Protection Data,” dated April 18, 2022.

Interested parties must submit applications for disclosure under APO in accordance with 19 CFR 351.305(b). Instructions for filing such applications may be found on Commerce's website at https://enforcement.trade.gov/apo.

Comments on CBP data and respondent selection must be filed electronically using ACCESS. An electronically filed document must be received successfully in its entirety via ACCESS by 5:00 p.m. ET on the specified deadline.

Distribution of Copies of the Petition

In accordance with section 732(b)(3)(A) of the Act and 19 CFR 351.202(f), copies of the public version of the Petition have been provided to the GOA via ACCESS. To the extent practicable, we will attempt to provide a copy of the public version of the Petition to each exporter named in the Petition, as provided under 19 CFR 351.203(c)(2).

ITC Notification

We will notify the ITC of our initiation, as required by section 732(d) of the Act.

Preliminary Determination by the ITC

The ITC will preliminarily determine, within 45 days after the date on which the Petition was filed, whether there is a reasonable indication that imports of WGJC from Argentina are materially injuring, or threatening material injury to, a U.S. industry.³⁹ A negative ITC determination will result in the investigation being terminated.⁴⁰ Otherwise, this LTFV investigation will proceed according to statutory and regulatory time limits.

³⁹ See section 733(a) of the Act.

⁴⁰ Id.

Submission of Factual Information

Factual information is defined in 19 CFR 351.102(b)(21) as: (i) Evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). Section 351.301(b) of Commerce's regulations requires any party, when submitting factual information, to specify under which subsection of 19 CFR 351.102(b)(21) the information is being submitted ⁴¹ and, if the information is submitted to rebut, clarify, or correct factual information already on the record, to provide an explanation identifying the information already on the record that the factual information seeks to rebut, clarify, or correct.⁴² Time limits for the submission of factual information are addressed in 19 CFR 351.301, which provides specific time limits based on the type of factual information being submitted. Interested parties should review the regulations prior to submitting factual information in this investigation.

⁴¹ See 19 CFR 351.301(b).

⁴² See 19 CFR 351.301(b)(2).

Particular Market Situation Allegation

Section 773(e) of the Act addresses the concept of particular market situation (PMS) for purposes of CV, stating that “if a particular market situation exists such that the cost of materials and fabrication or other processing of any kind does not accurately reflect the cost of production in the ordinary course of trade, the administering authority may use another calculation methodology under this subtitle or any other calculation methodology.” When an interested party submits a PMS allegation pursuant to section 773(e) of the Act, Commerce will respond to such a submission consistent with 19 CFR 351.301(c)(2)(v). If Commerce finds that a PMS exists under section 773(e) of the Act, then it will modify its dumping calculations appropriately.

Neither section 773(e) of the Act, nor 19 CFR 351.301(c)(2)(v), set a deadline for the submission of PMS allegations and supporting factual information. However, in order to administer section 773(e) of the Act, Commerce must receive PMS allegations and supporting factual information with enough time to consider the submission. Thus, should an interested party wish to submit a PMS allegation and supporting new factual information pursuant to section 773(e) of the Act, it must do so no later than 20 days after submission of a respondent's initial section D questionnaire response.

Extension of Time Limits

Parties may request an extension of time limits before the expiration of a time limit established under 19 CFR 351.301, or as otherwise specified by Commerce. In general, an extension request will be considered untimely if it is filed after the expiration of the time limit established under 19 CFR 351.301. For submissions that are due from multiple parties simultaneously, an extension request will be considered untimely if it is filed after 10:00 a.m. ET on the due date. Under certain circumstances, we may elect to specify a different time limit by which extension requests will be considered untimely for submissions which are due from multiple parties simultaneously. In such a case, we will inform parties in a letter or memorandum of the deadline (including a specified time) by which extension requests must be filed to be considered timely. An extension request must be made in a separate, stand-alone submission; under limited circumstances, we will grant untimely filed requests for the extension of time limits. Parties should review Commerce's regulations concerning factual information prior to submitting factual information in this investigation.⁴³

⁴³ See 19 CFR 351.301; see also Extension of Time Limits; Final Rule, 78 FR 57790 (September 20, 2013), available at http://www.gpo.gov/fdsys/pkg/FR-2013-09-20/html/2013-22853.htm.

Certification Requirements

Any party submitting factual information in an AD or CVD proceeding must certify to the accuracy and completeness of that information.⁴⁴ Parties must use the certification formats provided in 19 CFR 351.303(g).⁴⁵ Commerce intends to reject factual submissions if the submitting party does not comply with the applicable certification requirements.

⁴⁴ See section 782(b) of the Act.

⁴⁵ See Certification of Factual Information to Import Administration During Antidumping and Countervailing Duty Proceedings, 78 FR 42678 (July 17, 2013) (Final Rule). Answers to frequently asked questions regarding the Final Rule are available at http://enforcement.trade.gov/tlei/notices/factual_info_final_rule_FAQ_07172013.pdf.

Notification to Interested Parties

Interested parties must submit applications for disclosure under APO in accordance with 19 CFR 351.305. Parties wishing to participate in this investigation should ensure that they meet the requirements of 19 CFR 351.103(d) (e.g., by the filing a letter of appearance as discussed). Note that Commerce has temporarily modified certain of its requirements for serving documents containing business proprietary information, until further notice.⁴⁶

⁴⁶ See Temporary Rule.

This notice is issued and published pursuant to sections 732(c)(2) and 777(i) of the Act, and 19 CFR 351.203(c).

Dated: April 20, 2022.
Lisa W. Wang,
Assistant Secretary for Enforcement and Compliance.

Appendix

Scope of the Investigation

The scope of this investigation covers white grape juice concentrate with a Brix level of 65 to 68, whether in frozen or non-frozen forms. White grape juice concentrate is concentrated grape juice produced from grapes of the Vitis vinifera L. species with a white flesh, including fresh market table grapes and raisin grapes (e.g., Thompson Seedless), as well as several varietals of wine grapes (e.g., Chardonnay, Chenin Blanc, Sauvignon Blanc, Colombard, etc.). The scope of this investigation covers white grape juice concentrate regardless of whether it has been certified as kosher, organic, or organic kosher. The white grape juice concentrate subject to this investigation consists of 100 percent grape juice with no other types of juice intermixed and no additional sugars or additives included.

The scope does not cover white grape juice concentrate produced from grapes of the Vitis labrusca species (e.g., Niagara).

The products covered by this investigation are currently classified under the following Harmonized Tariff Schedule of the United States (HTSUS) subheadings: 2009.69.0040 and 2009.69.0060. The HTSUS subheadings and specifications are provided for convenience and customs purposes; the written description of the scope is dispositive.

[FR Doc. 2022-08951 Filed 4-26-22; 8:45 am]

BILLING CODE 3510-DS-P